DEPARTMENT OF STATE

[Public Notice 6913]

Determination and Waiver Regarding the Sixth Proviso under the Heading “Economic Support Funds” in the Department of State, Foreign Operations, and Related Programs Appropriations Act, 2009 (Div. H, Pub. L. 111-8) Relating to Assistance for Afghanistan

Pursuant to the authority vested in me as Secretary of State, including by Presidential Delegation No. 2007-29 of August 27, 2007, I hereby determine that it is in the national security interests of the United States to make available $200,000,000 appropriated under the heading Economic Support Funds in the Department of State, Foreign Operations, and Related Programs Appropriations Act, 2009 (Div. H, Pub. L. 111-8), without regard to the restriction in the sixth proviso under that heading.

This determination shall be reported to the Congress promptly and published in the Federal Register.

Dated: October 15, 2009.
Hillary Rodham Clinton,
Secretary of State.

[FR Doc. 2010-4604 Filed 3-3-10; 8:45 am]

BILLING CODE 4710-17-P